DEPARTMENT OF THE INTERIOR

Bureau of Indian Affairs

[156A2100DD/AAKC001030/A0A501010.999900 253G]

Acceptance of Retrocession of Jurisdiction for the Yakama Nation

AGENCY: Bureau of Indian Affairs, Interior.

ACTION: Notice.

SUMMARY: The Department of Interior (Department) has accepted retrocession to the United States of partial civil and criminal jurisdiction over the Yakama Nation from the State of Washington.

DATES: The Department accepted retrocession on October 19, 2015. Complete implementation of jurisdiction will be effective April 19, 2016.

FOR FURTHER INFORMATION CONTACT: Mr. Darren Cruzan, Deputy Director—Office of Justice Services, Bureau of Indian Affairs, (202) 208-5787.

SUPPLEMENTARY INFORMATION: Under the authority of 25 U.S.C. 1323, vested in the Secretary of the Interior by Executive Order No. 11435 of November 21, 1968, 33 FR 17339, and re-delegated to the Assistant Secretary—Indian Affairs, the United States accepts partial civil and criminal jurisdiction over the Yakama Nation which was acquired by the State of Washington, under Public Law 83-280, 67 Stat. 588, codified as amended at 18 U.S.C. 1162, 28 U.S.C. 1360, and as provided in Revised Code of Washington 37.12.010, 37.12.021, 37.12.030, 37.12.040, and 37.12.060 (1963), and 37.12.050 (1957).

This retrocession was offered by the State of Washington in Proclamation by the Governor 14-01, signed on January 17, 2014, and transmitted to the Assistant Secretary-Indian Affairs in accordance with the process in Revised Code of Washington 37.12.160 (2012), and as provided by Tribal Council Resolution No. T-117-12, dated July 5, 2012, in which the Yakama Nation requested that the State of Washington retrocede partial civil and criminal jurisdiction to the Tribe.

Dated: October 14, 2015.
Kevin K. Washburn,
Assistant Secretary—Indian Affairs.

[FR Doc. 2015-26620 Filed 10-19-15; 8:45 am]

BILLING CODE 4337-15-P